Proclamation 10407 of May 31, 2022

Black Music Appreciation Month, 2022

By the President of the United States of America

A Proclamation

Music has the power to lift our spirits, comfort our souls, and inspire our hearts. It gives a voice to the human spirit, creating a common language that unites people and breaks down barriers. Perhaps no music has had as profound and powerful an impact in shaping America's musical score as Black music. Intricately woven into the tapestry of our Nation, Black music enriches our lives and pushes the boundaries of creativity. Throughout the decades and across the country, Black music has fueled a myriad of genres—from rhythm and blues to jazz, gospel, country, rap and more. This month, we celebrate the extraordinary legacy of Black music on American culture and recognize the indelible impact it continues to have on the world.

For generations, Black music has conveyed the hopes and struggles of a resilient people—spirituals mourning the original sin of slavery and later heralding freedom from bondage, hard truths told through jazz and the sounds of Motown during the Civil Rights movement, and hip-hop and rhythm and blues that remind us of the work that still lies ahead. The music created by Black artists continues to influence musicians of all persuasions, entertain people of all backgrounds, and shape the story of our Nation.

During Black Music Appreciation Month, we honor Black musicians, singers, and contributors to the music industry—past and present—whose innovative talents unite us in joy as much as in sorrow and healing. We pay homage to the musical legends whose artistic expressions help build community, generate empathy, and foster a sense of shared identity. And we celebrate Black artists who have used their songs to stand up to injustice, fight for equality, and reflect a mirror on society—reminding us all of our enduring obligation to deliver the promise of America for all Americans.

NOW, THEREFORE, I, JOSEPH R. BIDEN JR., President of the United States of America, by virtue of the authority vested in me by the Constitution and the laws of the United States, do hereby proclaim June 2022 as Black Music Appreciation Month. I call upon public officials, educators, and all the people of the United States to observe this month by honoring Black Musicians and raising awareness and appreciation of Black music.

IN WITNESS WHEREOF, I have hereunto set my hand this thirty-first day of May, in the year of our Lord two thousand twenty-two, and of the Independence of the United States of America the two hundred and forty-sixth.

[FR Doc. 2022-12123

Filed 6-2-22; 8:45 am]

Billing code 3395-F2-P